DEPARTMENT OF THE INTERIOR

Fish and Wildlife Service

[FWS-R1-ES-2024-N072; FXES11130100000-256-FF01E00000]

Endangered and Threatened Wildlife and Plants; Initiation of 5-Year Status Reviews for 122 Species in Hawaii, Idaho, Oregon, and Washington

AGENCY: Fish and Wildlife Service, Interior.

ACTION: Notice of initiation of reviews; request for information.

SUMMARY: We, the U.S. Fish and Wildlife Service, are initiating 5-year status reviews for 122 species in Hawaii, Idaho, Oregon, and Washington under the Endangered Species Act of 1973. A 5-year status review is based on the best scientific and commercial data available at the time of the review; therefore, we are requesting submission of any new information on these species that has become available since the last reviews.

DATES: To ensure consideration in our reviews, we are requesting submission of new information no later than November 10, 2025. However, we will continue to accept new information about any species at any time.

ADDRESSES: Submitting Information on Species:

• Any of the 119 species occurring in Hawaii:

○ U.S. mail: Field Supervisor, Attention: 5-Year Review, U.S. Fish and Wildlife Service, Pacific Islands Fish and Wildlife Office, 300 Ala Moana Blvd., Room 3-122, Honolulu, HI 96850; or

○ Email: pifwo_admin@fws.gov.

• Slickspot peppergrass and MacFarlane's four o'clock:

○ U.S. mail: State Supervisor, Attention: 5-Year Review, U.S. Fish and Wildlife Service, Idaho Fish and Wildlife Office, 1387 S Vinnell Way, Suite 368, Boise, ID 83709; or

○ Email: ifwo@fws.gov.

• Umtanum desert buckwheat:

○ U.S. mail: State Supervisor, Attention: 5-Year Review, U.S. Fish and Wildlife Service, Washington Fish and Wildlife Office, 1009 College St. SE, Suite 215, Lacey, WA 98503; or

○ Email: WFWO_LR@fws.gov.

FOR FURTHER INFORMATION CONTACT: For general information, please contact Grant Canterbury, Regional Recovery Biologist, at 503-231-6151. Individuals in the United States who are deaf, deafblind, hard of hearing, or have a speech disability may dial 711 (TTY, TDD, or TeleBraille) to access telecommunications relay services. Individuals outside the United States should use the relay services offered within their country to make international calls to the point-of-contact in the United States.

For information about the following specific species, contact the following people:

• Any of the 119 species occurring in Hawaii: Megan Laut, Recovery Program Manager, Pacific Islands Fish and Wildlife Office, 808-792-9400; pifwo_admin@fws.gov.

• Slickspot peppergrass and MacFarlane's four o'clock: Shannon Brinkman, Recovery Coordinator, Idaho Fish and Wildlife Office, 208-918-2155; ifwo@fws.gov.

• Umtanum desert buckwheat: Rose Agbalog, Recovery Coordinator, Washington Fish and Wildlife Office, 564-200-2124; WFWO_LR@fws.gov.

SUPPLEMENTARY INFORMATION:

Why do we conduct 5-year status reviews?

Under the Endangered Species Act of 1973, as amended (Act; 16 U.S.C. 1531, et seq.), we maintain Lists of Endangered and Threatened Wildlife and Plants (which we collectively refer to as the List) in the Code of Federal Regulations (CFR) at 50 CFR 17.11 (for animals) and 17.12 (for plants). Section 4(c)(2)(A) of the Act requires us to review the status of each listed species at least once every 5 years. For additional information about 5-year status reviews, refer to our factsheet at https://www.fws.gov/project/five-year-status-reviews.

What information do we consider in our review?

A 5-year status review considers all new information available at the time of the review. In conducting these reviews, we consider the best scientific and commercial data that have become available since the listing determination or most recent status reviews, such as:

A. Species biology, including but not limited to population trends, distribution, abundance, demographics, and genetics;

B. Habitat conditions, including but not limited to amount, distribution, and suitability;

C. Conservation measures that have been implemented that benefit the species;

D. Threat status and trends in relation to the five listing factors (as defined in section 4(a)(1) of the Act); and

E. Other new information, data, or corrections, including but not limited to taxonomic or nomenclatural changes, identification of erroneous information contained in the List, and improved analytical methods.

Any new information will be considered during the 5-year status review and will also be useful in evaluating the ongoing recovery programs for these species.

Which species are under review?

This notice announces our active review of 122 species, including 8 birds, 1 snail, 2 insects, 1 arachnid, 1 crustacean, and 109 plants, as listed in table 1.

Table 1—Species Under 5-Year Status Review
Common name | Scientific name | Status | Known range of species occurrence | Final listing rule and publication date
Animals
Birds:
Millerbird, Nihoa (old world warbler) | Acrocephalus familiaris kingi | Endangered | Hawaii | 32 FR 4001, 3/11/1967.
Duck, Laysan | Anas laysanensis | Endangered | Hawaii | 32 FR 4001, 3/11/1967.
'Akeke'e (honeycreeper) | Loxops caeruleirostris | Endangered | Hawaii | 75 FR 18960, 4/13/2010; 50 CFR 17.95(b).CH
'Akikiki (honeycreeper) | Oreomystis bairdi | Endangered | Hawaii | 75 FR 18960, 4/13/2010; 50 CFR 17.95(b).CH
'O'u (honeycreeper) | Psittirostra psittacea | Endangered | Hawaii | 32 FR 4001, 3/11/1967.
Petrel, Hawaiian [='ua'u] | Pterodroma sandwichensis | Endangered | Hawaii | 32 FR 4001, 3/11/1967.
Finch, Laysan (honeycreeper) | Telespiza cantans | Endangered | Hawaii | 32 FR 4001, 3/11/1967.
Finch, Nihoa (honeycreeper) | Telespiza ultima | Endangered | Hawaii | 32 FR 4001, 3/11/1967.
Snails:
Snail, Newcomb's | Erinna newcombi | Threatened | Hawaii | 65 FR 4162, 1/26/2000; 50 CFR 17.95(f).CH
Insects:
Fly, Hawaiian picture-wing | Drosophila musaphilia | Endangered | Hawaii | 71 FR 26835, 5/9/2006; 50 CFR 17.95(i).CH
Fly, Hawaiian picture-wing | Drosophila sharpi | Endangered | Hawaii | 71 FR 26835, 5/9/2006; 50 CFR 17.95(i).CH
Arachnids:
Spider, Kauai cave wolf [=pe'epe'emaka'ole] | Adelocosa anops | Endangered | Hawaii | 65 FR 2348, 1/14/2000; 50 CFR 17.95(g).CH
Crustaceans:
Amphipod, Kauai cave | Spelaeorchestia koloana | Endangered | Hawaii | 65 FR 2348, 1/14/2000; 50 CFR 17.95(h).CH
Plants
Flowering Plants:
Pa'iniu | Astelia waialealae | Endangered | Hawaii | 75 FR 18960, 4/13/2010; 50 CFR 17.99(a).CH
'Ōlulu | Brighamia insignis | Endangered | Hawaii | 59 FR 9304, 2/25/1994; 50 CFR 17.99(a)(1); CH 50 CFR 17.99(a)(2).CH
'Āwikiwiki | Canavalia napaliensis | Endangered | Hawaii | 75 FR 18960, 4/13/2010; 50 CFR 17.99(a).CH
Pāpala | Charpentiera densiflora | Endangered | Hawaii | 75 FR 18960, 4/13/2010; 50 CFR 17.99(a).CH
Hāhā | Cyanea asarifolia | Endangered | Hawaii | 59 FR 9304, 2/25/1994; 50 CFR 17.99(a)(1).CH
Hāhā | Cyanea dolichopoda | Endangered | Hawaii | 75 FR 18960, 4/13/2010; 50 CFR 17.99(a).CH
Hāhā | Cyanea eleeleensis | Endangered | Hawaii | 75 FR 18960, 4/13/2010; 50 CFR 17.99(a).CH
Hāhā | Cyanea kolekoleensis | Endangered | Hawaii | 75 FR 18960, 4/13/2010; 50 CFR 17.99(a).CH
Hāhā | Cyanea kuhihewa | Endangered | Hawaii | 75 FR 18960, 4/13/2010; 50 CFR 17.99(a).CH
Hāhā | Cyanea recta | Threatened | Hawaii | 61 FR 53070, 10/10/1996; 50 CFR 17.99(a)(1).CH
Hāhā | Cyanea remyi | Endangered | Hawaii | 61 FR 53070, 10/10/1996; 50 CFR 17.99(a)(1).CH
Hāhā | Cyanea [=Delissea] rivularis | Endangered | Hawaii | 61 FR 53070, 10/10/1996; 50 CFR 17.99(a)(1).CH
Hāhā | Cyanea undulata | Endangered | Hawaii | 56 FR 47695, 9/20/1991; 50 CFR 17.99(a)(1).CH
Māpele | Cyrtandra cyaneoides | Endangered | Hawaii | 61 FR 53070, 10/10/1996; 50 CFR 17.99(a)(1).CH
Ha'iwale | Cyrtandra kealiae ssp. kealiae [=C. limahuliensis] | Threatened | Hawaii | 59 FR 9304, 2/25/1994; 50 CFR 17.99(a)(1).CH
Ha'iwale | Cyrtandra oenobarba | Endangered | Hawaii | 75 FR 18960, 4/13/2010; 50 CFR 17.99(a).CH
Ha'iwale | Cyrtandra paliku | Endangered | Hawaii | 75 FR 18960, 4/13/2010; 50 CFR 17.99(a).CH
No common name | Delissea rhytidosperma | Endangered | Hawaii | 59 FR 9304, 2/25/1994; 50 CFR 17.99(a)(1).CH
Na'ena'e | Dubautia imbricata ssp. imbricata | Endangered | Hawaii | 75 FR 18960, 4/13/2010; 50 CFR 17.99(a).CH
Na'ena'e | Dubautia kalalauensis | Endangered | Hawaii | 75 FR 18960, 4/13/2010; 50 CFR 17.99(a).CH
Na'ena'e | Dubautia kenwoodii | Endangered | Hawaii | 75 FR 18960, 4/13/2010; 50 CFR 17.99(a).CH
Koholāpehu | Dubautia latifolia | Endangered | Hawaii | 57 FR 20580, 5/13/1992; 50 CFR 17.99(a)(1).CH
Na'ena'e | Dubautia pauciflorula | Endangered | Hawaii | 56 FR 47695, 9/20/1991 50 CFR 17.99(a)(1).CH
Na'ena'e | Dubautia plantaginea ssp. magnifolia | Endangered | Hawaii | 75 FR 18960, 4/13/2010; 50 CFR 17.99(a).CH
Na'ena'e | Dubautia waialealae | Endangered | Hawaii | 75 FR 18960, 4/13/2010; 50 CFR 17.99(a).CH
Buckwheat, Umtanum desert | Eriogonum codium | Threatened | Washington | 78 FR 23983, 4/23/2013; 50 CFR 17.96(a).CH
'Akoko | Euphorbia [=Chamaesyce] eleanoriae | Endangered | Hawaii | 75 FR 18960, 4/13/2010; 50 CFR 17.99(a).CH
'Akoko | Euphorbia [=Chamaesyce] halemanui | Endangered | Hawaii | 57 FR 20580, 5/13/1992; 50 CFR 17.99(a)(1).CH
'Akoko | Euphorbia [=Chamaesyce] remyi var. kauaiensis | Endangered | Hawaii | 75 FR 18960, 4/13/2010; 50 CFR 17.99(a).CH
'Akoko | Euphorbia [=Chamaesyce] remyi var. remyi | Endangered | Hawaii | 75 FR 18960, 4/13/2010; 50 CFR 17.99(a).CH
Heau | Exocarpos luteolus | Endangered | Hawaii | 59 FR 9304, 2/25/1994; 50 CFR 17.99(a)(1).CH
Nohoanu | Geranium kauaiense | Endangered | Hawaii | 75 FR 18960, 4/13/2010; 50 CFR 17.99(a).CH
No common name | Hesperomannia arborescens | Endangered | Hawaii | 59 FR 14482; 3/28/1994; 50 CFR 17.99(e)(1); CH 50 CFR 17.99(c); CH 50 CFR 17.99(i).CH
No common name | Hesperomannia lydgatei | Endangered | Hawaii | 56 FR 47695, 9/20/1991; 50 CFR 17.99(a)(1).CH
Kauai hau kuahiwi | Hibiscadelphus distans | Endangered | Hawaii | 51 FR 15903; 4/29/1986.
Hau kuahiwi | Hibiscadelphus woodii | Endangered | Hawaii | 61 FR 53070, 10/10/1996; 50 CFR 17.99(a)(1).CH
Hibiscus, Clay's [=Aloalo] | Hibiscus clayi | Endangered | Hawaii | 59 FR 9304, 2/25/1994; 50 CFR 17.99(a)(1).CH
Koki'o ke'oke'o | Hibiscus waimeae ssp. hannerae | Endangered | Hawaii | 61 FR 53070, 10/10/1996; 50 CFR 17.99(a)(1).CH
Aupaka | Isodendrion laurifolium | Endangered | Hawaii | 61 FR 53108, 10/10/1996; 50 CFR 17.99(a)(1);CH 50 CFR 17.99(i). CH
No common name | Kadua [=Hedyotis] st.-johnii | Endangered | Hawaii | 56 FR 49639, 9/30/1991 50 CFR 17.99(a)(1).CH
No common name | Keysseria [=Lagenifera] erici | Endangered | Hawaii | 75 FR 18960, 4/13/2010; 50 CFR 17.99(a).CH
No common name | Keysseria [=Lagenifera] helenae | Endangered | Hawaii | 75 FR 18960, 4/13/2010; 50 CFR 17.99(a).CH
Koki'o | Kokia kauaiensis | Endangered | Hawaii | 61 FR 53070, 10/10/1996; 50 CFR 17.99(a)(1).CH
Kāmakahala | Labordia helleri | Endangered | Hawaii | 75 FR 18960, 4/13/2010; 50 CFR 17.99(a).CH
Kāmakahala | Labordia lydgatei | Endangered | Hawaii | 56 FR 47695, 9/20/1991; 50 CFR 17.99(a)(1).CH
Kāmakahala | Labordia pumila | Endangered | Hawaii | 75 FR 18960, 4/13/2010; 50 CFR 17.99(a).CH
Kāmakahala | Labordia tinifolia var. wahiawaensis | Endangered | Hawaii | 61 FR 53070, 10/10/1996; 50 CFR 17.99(a)(1).CH
Peppergrass, slickspot | Lepidium papilliferum | Threatened | Idaho | 74 FR 52014, 10/8/2009; 81 FR 55058, 8/17/2016; 50 CFR 17.96(a).CH
Nehe | Lipochaeta fauriei | Endangered | Hawaii | 59 FR 9304, 2/25/1994; 50 CFR 17.99(a)(1).CH
Nehe | Lipochaeta micrantha | Endangered | Hawaii | 59 FR 9304, 2/25/1994; 50 CFR 17.99(a)(1).CH
Nehe | Lipochaeta waimeaensis | Endangered | Hawaii | 59 FR 9304, 2/25/1994; 50 CFR 17.99(a)(1).CH
Lehua makanoe | Lysimachia daphnoides | Endangered | Hawaii | 75 FR 18960, 4/13/2010; 50 CFR 17.99(a).CH
No common name | Lysimachia iniki | Endangered | Hawaii | 75 FR 18960, 4/13/2010; 50 CFR 17.99(a).CH
No common name | Lysimachia pendens | Endangered | Hawaii | 75 FR 18960, 4/13/2010; 50 CFR 17.99(a).CH
No common name | Lysimachia scopulensis | Endangered | Hawaii | 75 FR 18960, 4/13/2010; 50 CFR 17.99(a).CH
No common name | Lysimachia venosa | Endangered | Hawaii | 75 FR 18960, 4/13/2010; 50 CFR 17.99(a).CH
Alani | Melicope degeneri | Endangered | Hawaii | 75 FR 18960, 4/13/2010; 50 CFR 17.99(a).CH
Alani | Melicope haupuensis | Endangered | Hawaii | 59 FR 9304, 2/25/1994; 50 CFR 17.99(a)(1).CH
Alani | Melicope pallida | Endangered | Hawaii | 59 FR 9304, 2/25/1994; 50 CFR 17.99(a)(1).CH
Alani | Melicope paniculata | Endangered | Hawaii | 75 FR 18960, 4/13/2010; 50 CFR 17.99(a).CH
Alani | Melicope puberula | Endangered | Hawaii | 75 FR 18960, 4/13/2010; 50 CFR 17.99(a).CH
Alani | Melicope quadrangularis | Endangered | Hawaii | 59 FR 9304, 2/25/1994.
Pilo kea lau li'i | Melicope [=Platydesma] rostrata | Endangered | Hawaii | 75 FR 18960, 4/13/2010; 50 CFR 17.99(a).CH
Four o'clock, MacFarlane's | Mirabilis macfarlanei | Threatened | Idaho, Oregon | 44 FR 61912, 10/26/1979; 61 FR 10693, 3/15/1996.
Kōlea | Myrsine knudsenii | Endangered | Hawaii | 75 FR 18960, 4/13/2010; 50 CFR 17.99(a).CH
Kōlea | Myrsine linearifolia | Threatened | Hawaii | 61 FR 53070, 10/10/1996; 50 CFR 17.99(a)(1).CH
Kōlea | Myrsine mezii | Endangered | Hawaii | 75 FR 18960, 4/13/2010; 50 CFR 17.99(a).CH
'Aiea | Nothocestrum peltatum | Endangered | Hawaii | 59 FR 9304, 2/25/1994; 50 CFR 17.99(a)(1).CH
Lau 'ehu | Panicum niihauense | Endangered | Hawaii | 61 FR 53108, 10/10/1996; 50 CFR 17.99(a)(1).CH
Makou | Peucedanum sandwicense | Threatened | Hawaii | 59 FR 9304, 2/25/1994; 50 CFR 17.99(a)(1); CH 50 CFR 17.99(c)); CH 50 CFR 17.99(e)(1)); CH 50 CFR 17.99(i).CH
No common name | Phyllostegia knudsenii | Endangered | Hawaii | 61 FR 53070, 10/10/1996; 50 CFR 17.99(a)(1).CH
No common name | Phyllostegia renovans | Endangered | Hawaii | 75 FR 18960, 4/13/2010; 50 CFR 17.99(a).CH
No common name | Phyllostegia waimeae | Endangered | Hawaii | 59 FR 9304, 2/25/1994; 50 CFR 17.99(a)(1).CH
No common name | Phyllostegia wawrana | Endangered | Hawaii | 61 FR 53070, 10/10/1996; 50 CFR 17.99(a)(1).CH
Hō'awa | Pittosporum napaliense | Endangered | Hawaii | 75 FR 18960, 4/13/2010; 50 CFR 17.99(a).CH
Bluegrass, Mann's | Poa mannii | Endangered | Hawaii | 59 FR 56330, 11/10/1994; 50 CFR 17.99(a)(1).CH
Bluegrass, Hawaiian | Poa sandvicensis | Endangered | Hawaii | 57 FR 20580, 5/13/1992; 50 CFR 17.99(a)(1).CH
No common name | Poa siphonoglossa | Endangered | Hawaii | 57 FR 20580, 5/13/1992; 50 CFR 17.99(a)(1).CH
No common name [='Ohe'ohe] | Polyscias bisattenuata | Endangered | Hawaii | 75 FR 18960, 4/13/2010; 50 CFR 17.99(a).CH
No common name [='Ohe'ohe] | Polyscias flynnii | Endangered | Hawaii | 75 FR 18960, 4/13/2010; 50 CFR 17.99(a).CH
No common name | Polyscias racemosa | Endangered | Hawaii | 59 FR 9304, 2/25/1994; 50 CFR 17.99(a)(1).CH
Loulu | Pritchardia hardyi | Endangered | Hawaii | 75 FR 18960, 4/13/2010.
Loulu | Pritchardia napaliensis | Endangered | Hawaii | 61 FR 53070, 10/10/1996.
Loulu | Pritchardia viscosa | Endangered | Hawaii | 61 FR 53070, 10/10/1996.
Kōpiko | Psychotria grandiflora | Endangered | Hawaii | 75 FR 18960, 4/13/2010; 50 CFR 17.99(a).CH
Kōpiko | Psychotria hobdyi | Endangered | Hawaii | 75 FR 18960, 4/13/2010; 50 CFR 17.99(a).CH
Kaulu | Pteralyxia kauaiensis | Endangered | Hawaii | 59 FR 9304, 2/25/1994; 50 CFR 17.99(a)(1).CH
No common name | Remya kauaiensis | Endangered | Hawaii | 56 FR 1450, 1/14/1991; 50 CFR 17.99(a)(1).CH
No common name | Remya montgomeryi | Endangered | Hawaii | 56 FR 1450, 1/14/1991; 50 CFR 17.99(a)(1).CH
Ma'oli'oli | Schiedea apokremnos | Endangered | Hawaii | 56 FR 49639, 9/30/1991; 50 CFR 17.99(a)(1).CH
No common name | Schiedea attenuata | Endangered | Hawaii | 75 FR 18960, 4/13/2010; 50 CFR 17.99(a).CH
No common name | Schiedea helleri | Endangered | Hawaii | 61 FR 53070, 10/10/1996; 50 CFR 17.99(a)(1).CH
No common name | Schiedea kauaiensis | Endangered | Hawaii | 61 FR 53108, 10/10/1996; 50 CFR 17.99(a)(1).CH
Kuawāwaenohu | Schiedea lychnoides | Endangered | Hawaii | 61 FR 53070, 10/10/1996; 50 CFR 17.99(a)(1).CH
No common name | Schiedea membranacea | Endangered | Hawaii | 61 FR 53070, 10/10/1996; 50 CFR 17.99(a)(1).CH
No common name | Schiedea spergulina var. leiopoda | Endangered | Hawaii | 59 FR 9304, 2/25/1994; 50 CFR 17.99(a)(1).CH
No common name | Schiedea spergulina var. spergulina | Threatened | Hawaii | 59 FR 9304, 2/25/1994; 50 CFR 17.99(a)(1).CH
Laulihilihi [=Mā'oli'oli] | Schiedea stellarioides | Endangered | Hawaii | 61 FR 53070, 10/10/1996; 50 CFR 17.99(a)(1).CH
No common name | Schiedea viscosa | Endangered | Hawaii | 61 FR 53070, 10/10/1996; 50 CFR 17.99(a)(1).CH
No common name | Stenogyne campanulata | Endangered | Hawaii | 57 FR 20580, 5/13/1992; 50 CFR 17.99(a)(1).CH
No common name | Stenogyne kealiae | Endangered | Hawaii | 75 FR 18960, 4/13/2010; 50 CFR 17.99(a).CH
No common name | Viola helenae | Endangered | Hawaii | 56 FR 47695, 9/20/1991; 50 CFR 17.99(a)(1).CH
Nani wai'ale'ale [=Pohe hiwa] | Viola kauaiensis var. wahiawaensis | Endangered | Hawaii | 61 FR 53070, 10/10/1996; 50 CFR 17.99(a)(1).CH
Iliau, dwarf | Wilkesia hobdyi | Endangered | Hawaii | 57 FR 27859; 6/22/1992; 50 CFR 17.99(a)(1).CH
No common name | Xylosma crenatum | Endangered | Hawaii | 57 FR 20580, 5/13/1992; 50 CFR 17.99(a)(1).CH
Ferns and Allies:
No common name | Asplenium dielmannii | Endangered | Hawaii | 75 FR 18960, 4/13/2010; 50 CFR 17.99(a).CH
No common name | Asplenium dielpallidum | Endangered | Hawaii | 59 FR 9304, 2/25/1994; 50 CFR 17.99(a)(1).CH
No common name | Doryopteris angelica | Endangered | Hawaii | 75 FR 18960, 4/13/2010; 50 CFR 17.99(a).CH
Palapalai 'aumakua | Dryopteris crinalis var. podosorus | Endangered | Hawaii | 75 FR 18960, 4/13/2010; 50 CFR 17.99(a).CH
Note: CH = Critical habitat designation.

Request for New Information

To ensure that a 5-year status review is complete and based on the best available scientific and commercial information, we request new information from all sources. See What Information Do We Consider in Our Review? for specific criteria. If you submit information, please support it with documentation such as maps, references, methods used to gather and analyze the data, and copies of any pertinent publications, reports, or letters by knowledgeable sources.

If you wish to provide information for any species listed in the table, please submit your comments and materials to the appropriate contact in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Completed and Active Reviews

A table including hyperlinks to the most recently completed 5-year status review for each listed species, as well as notices of 5-year status reviews that are currently in progress, is available at https://ecos.fws.gov/ecp/report/species-five-year-review.

Authority

This document is published under the authority of the Endangered Species Act of 1973, as amended (16 U.S.C. 1531 et seq.).

Bridget Fahey,
Acting Regional Director, Pacific Region, U.S. Fish and Wildlife Service.

[FR Doc. 2025-17566 Filed 9-10-25; 8:45 am]

BILLING CODE 4333-15-P